DEPARTMENT OF THE INTERIOR

National Park Service

[NPS-WASO-NAGPRA-NPS0030350; PPWOCRADN0-PCU00RP14.R50000]

Notice of Inventory Completion: The Florida Department of State/Division of Historical Resources, Tallahassee, FL

AGENCY: National Park Service, Interior.

ACTION: Notice.

SUMMARY: The Florida Department of State, Division of Historical Resources, has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the Florida Department of State, Division of Historical Resources. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the Florida Department of State, Division of Historical Resources at the address in this notice by July 10, 2020.

ADDRESSES: Kathryn Miyar, Florida Department of State, Mission San Luis Collections, 2100 West Tennessee Street, Tallahassee, FL 32304, telephone (850) 245-6301, email kathryn.miyar@dos.myflorida.com.

SUPPLEMENTARY INFORMATION: Notice is here given in accordance with the Native American Graves Protection and Repatriation Act (NAGPRA), 25 U.S.C. 3003, of the completion of an inventory of human remains and associated funerary objects under the control of the Florida Department of State, Division of Historical Resources, Tallahassee, FL. The human remains and associated funerary objects were removed from the Manasota Key Offshore site, Sarasota County, FL.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Florida Department of State, Division of Historical Resources professional staff in consultation with representatives of the Miccosukee Tribe of Indians; Seminole Tribe of Florida (previously listed as the Seminole Tribe of Florida (Dania, Big Cypress, Brighton, Hollywood & Tampa Reservations); and The Seminole Nation of Oklahoma (hereafter referred to as “The Tribes”).

History and Description of the Remains

From 2016 to 2018, human remains representing, at minimum, 11 individuals were removed from the Manasota Key Offshore site in Sarasota County, FL. In June 2016, the Florida Division of Historical Resources (DHR) Bureau of Archaeological Research (BAR) staff were notified of prehistoric human remains that had washed ashore on Manasota Key in Sarasota County. Underwater archeological staff investigated the incident and discovered the human remains were from an Archaic burial site (7,000 B.P.) now inundated offshore under the Gulf of Mexico. This site is legally protected under Chapter 267 and Section 872.05, Florida Statutes, requiring state archeologists to preserve and protect the site from both human and natural impacts. Underwater archeological excavations were conducted by BAR from 2017 to 2018, in order to develop a protection plan for the underwater cemetery. These excavations resulted in the recovery of in situ remains representing 11 individuals, including seven adults, two infants, and two prenates. No known individuals were identified. The 49 associated funerary objects include 10 fiber cordage fragments, one modified conch shell, two modified oyster drills, one shell pendant, and 35 wooden stake fragments.

Determinations Made by the Florida Department of State, Division of Historical Resources

Officials of the Florida Department of State, Division of Historical Resources have determined that:

• Pursuant to 25 U.S.C. 3001(9), the human remains described in this notice are Native American based on contextual information and osteological analysis.

• Pursuant to 25 U.S.C. 3001(9), the human remains described in this notice represent the physical remains of 11 individuals of Native American ancestry.

• Pursuant to 25 U.S.C. 3001(3)(A), the 49 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• According to final judgments of the Indian Claims Commission in 1978, the land from which the Native American human remains and associated funerary objects were removed is the aboriginal land of The Tribes.

• The Treaty with the Florida Tribes of Indians in 1823 (Cession 118) and the Treaty with the Seminoles in 1832 (Cession 173) indicate that the land from which the Native American human remains and associated funerary objects were removed is the aboriginal land of The Tribes.

• Pursuant to 43 CFR 10.11(c)(1), the disposition of the human remains and associated funerary objects may be to The Tribes.

Additional Requestors and Disposition

Representatives of any Indian Tribe or Native Hawaiian organization not identified in this notice that wish to request transfer of control of these human remains and associated funerary objects should submit a written request with information in support of the request to Kathryn Miyar, Florida Department of State, Mission San Luis Collections, 2100 West Tennessee Street, Tallahassee, FL 32304, telephone (850) 245-6301, email kathryn.miyar@dos.myflorida.com, by July 10, 2020. After that date, if no additional requestors have come forward, transfer of control of the human remains and associated funerary objects to The Tribes may proceed.

The Florida Department of State, Division of Historical Resources is responsible for notifying The Tribes that this notice has been published.

Dated: May 15, 2020.
Melanie O'Brien,
Manager, National NAGPRA Program.

[FR Doc. 2020-12553 Filed 6-9-20; 8:45 am]

BILLING CODE 4312-52-P